DEPARTMENT OF ENERGY

Federal Energy Regulatory Commission

[Docket Nos. RP97-288-029 and RP01-507-003]

Transwestern Pipeline Company; Notice of Compliance Filing

February 6, 2003.

Take notice that on February 4, 2003, Transwestern Pipeline Company (Transwestern) tendered for filing as part of its FERC Gas Tariff, Second Revised Volume No. 1, Substitute Fourth Revised Sheet No. 83; Substitute Fourth Sheet No. 84; and Original Sheet No. 84A, to become effective February 5, 2003.

Transwestern states that on December 10, 2002, it filed a Stipulation and Agreement (Settlement) resolving issues raised in the above referenced dockets. The Settlement included, among other things, pro forma tariff sheets setting forth new capacity posting and contract procedures in a new Section 24 of the General Terms and Conditions (GTC) of Transwestern's Tariff. Transwestern explains that, by Order issued January 31, 2003. (January 31 Order), the Commission accepted the Settlement and the pro forma tariff sheets, and directed Transwestern to file actual tariff sheets within five days of the date of the order. Transwestern states that this filing is made in compliance with the January 31 Order.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: February 18, 2003.

Magalie R. Salas,
Secretary.

[FR Doc. 03-3544 Filed 2-12-03; 8:45 am]

BILLING CODE 6717-01-P